SURFACE TRANSPORTATION BOARD

[Docket No. FD 36612]

Revolution Rail Holding Company, LLC—Acquisition Exemption—Saratoga and North Creek Railway, LLC

Revolution Rail Holding Company, LLC (RRHC), a noncarrier, has filed a verified notice of exemption under 49 CFR 1150.31 to acquire from Saratoga and North Creek Railroad (SNCR) approximately 29.71 miles of rail line between milepost NC 0.0 at North Creek, N.Y., and its terminus at milepost NC 29.71 near the former Tahawus Mine, as well as approximately 2.97 miles of passing tracks and siding (the Line).¹

¹ RRHC submitted its verified notice of exemption on April 20, 2022. However, by decision served on May 19, 2022, the effective date of the exemption was postponed because of uncertainty involving the interrelationship between RRHC's proposed acquisition exemption and the pending application for adverse abandonment of the Line filed by the New York State Department of Environmental Conservation (the Department) in Docket No. AB 1261. The Department filed letters addressing these issues on June 21, 2022, and July 19, 2022. By decision served November 18, 2022, the Board concluded that the uncertainty had been addressed and notice of RRHC's exemption could proceed.

RRHC states that that it was the successful bidder in the March 2022 bankruptcy auction of SNCR's assets and it subsequently entered into an Amended Asset Purchase Agreement (the Agreement) with the Plan Administrator to purchase those assets, including the Line. (Verified Notice 5, 8-9, Ex. B.) RRHC further states that it is willing to assume the common carrier obligation and has partnered with SMS Rail Service, Inc. (SMS), a Class III rail carrier, to provide freight rail service on the Line if any service is requested in accordance with 49 U.S.C. 11101.² (Id. at 8.)

² RRHC notes that SMS would need to obtain the necessary Board authority to operate on the Line when service is required.

The transaction may be consummated on or after December 7, 2022, the effective date of the exemption.

RRHC certifies that proposed transaction will not result in projected annual operating revenues exceeding $5 million and will not result in the creation of a Class I or Class II rail carrier.

If the verified notice contains false or misleading information, the exemption is void ab initio. Petitions to revoke the exemption under 49 U.S.C. 10502(d) may be filed at any time. The filing of a petition to revoke will not automatically stay the effectiveness of the exemption. Petitions for stay must be filed no later than November 30, 2022 (at least seven days before the exemption becomes effective).

All pleadings, referring to Docket No. FD 36612, must be filed with the Surface Transportation Board either via e-filing on the Board's website or in writing addressed to 395 E Street SW, Washington, DC 20423-0001. In addition, a copy of each pleading must be served on RRHC's representative, Daniel R. Elliott, GKG Law, P.C., 1050 Thomas Jefferson Street NW, Suite 500, Washington, DC 20007.

According to RRHC, this action is categorically excluded from environmental review under 49 CFR 1105.6 and from historic reporting requirements under 49 CFR 1105.8.

Board decisions and notices are available at www.stb.gov.

Decided: November 17, 2022.
By the Board, Mai T. Dinh, Director, Office of Proceedings.
Kenyatta Clay,
Clearance Clerk.

[FR Doc. 2022-25544 Filed 11-22-22; 8:45 am]

BILLING CODE 4915-01-P